DEPARTMENT OF LABOR

Employment and Training Administration

[TA-W-58,184]

Georgia-Pacific Corporation, Consumer Products Division, Green Bay, WI; Amended Certification Regarding Eligibility To Apply for Worker Adjustment Assistance and Alternative Trade Adjustment Assistance

In accordance with section 223 of the Trade Act of 1974 (19 U.S.C. 2273) the Department of Labor issued a Certification of Eligibility To Apply for Worker Adjustment Assistance and Alternative Trade Adjustment Assistance on November 21, 2005, applicable to workers of Georgia-Pacific Corporation, Consumer Products Division, Green Bay, Wisconsin. The notice was published in the Federal Register on December 15, 2005 (70 FR 74368).

At the request of the State agency, the Department reviewed the certification for workers of the subject firm. The workers are engaged in the production of napkins, towels and tissue and are not separately identifiable by product line.

New findings show that there was a previous certification, TA-W-55,156, issued on August 12, 2004, for workers of Georgia-Pacific Corporation, Consumer Products Division, Green Bay, Wisconsin who were engaged in employment related to the production of napkins, towels and tissue. That certification expires August 12, 2006. To avoid an overlap in worker group coverage, the certification is being amended to change the impact date from October 12, 2004 to August 13, 2006, for workers of the subject firm.

The amended notice applicable to TA-W-58,184 is hereby issued as follows:

All workers of Georgia-Pacific Corporation, Consumer Products Division, Green Bay, Wisconsin, who became totally or partially separated from employment on or after August 13, 2006, through November 21, 2007, are eligible to apply for adjustment assistance under Section 223 of the Trade Act of 1974 and are also eligible to apply for alternative trade adjustment assistance under section 246 of the Trade Act of 1974.

Signed at Washington, DC, this 11th day of July 2006.
Elliott S. Kushner,
Certifying Officer, Division of Trade Adjustment Assistance.

[FR Doc. E6-12207 Filed 7-28-06; 8:45 am]

BILLING CODE 4510-30-P